DEPARTMENT OF ENERGY

Federal Energy Regulatory Commission

Combined Notice of Filings #2

Take notice that the Commission received the following electric rate filings:

Docket Numbers: ER18-1363-000.

Applicants: Blue Canyon Windpower LLC.

Description: § 205(d) Rate Filing: Revised MBR Tariff to be effective 4/14/2018.

Filed Date: 4/13/18.

Accession Number: 20180413-5086.

Comments Due: 5 p.m. ET 5/4/18.

Docket Numbers: ER18-1364-000.

Applicants: Duke Energy Florida, LLC.

Description: § 205(d) Rate Filing: Joint OATT Real Power Loss (DEF) 2018 to be effective 5/1/2018.

Filed Date: 4/13/18.

Accession Number: 20180413-5104.

Comments Due: 5 p.m. ET 5/4/18.

Docket Numbers: ER18-1365-000.

Applicants: Blue Canyon Windpower II LLC.

Description: § 205(d) Rate Filing: Revised MBR Tariff to be effective 4/14/2018.

Filed Date: 4/13/18.

Accession Number: 20180413-5113.

Comments Due: 5 p.m. ET 5/4/18.

Docket Numbers: ER18-1366-000.

Applicants: Blue Canyon Windpower V LLC.

Description: § 205(d) Rate Filing: Revised MBR Tariff to be effective 4/14/2018.

Filed Date: 4/13/18.

Accession Number: 20180413-5117.

Comments Due: 5 p.m. ET 5/4/18.

Docket Numbers: ER18-1367-000.

Applicants: Blue Canyon Windpower VI LLC.

Description: § 205(d) Rate Filing: Revised MBR Tariff to be effective 4/14/2018.

Filed Date: 4/13/18.

Accession Number: 20180413-5127.

Comments Due: 5 p.m. ET 5/4/18.

Docket Numbers: ER18-1368-000.

Applicants: Southern California Edison Company.

Description: § 205(d) Rate Filing: Amended IFA Dillon I Project SA No. 521 to be effective 4/14/2018.

Filed Date: 4/13/18.

Accession Number: 20180413-5136.

Comments Due: 5 p.m. ET 5/4/18.

Docket Numbers: ER18-1369-000.

Applicants: Cloud County Wind Farm, LLC.

Description: § 205(d) Rate Filing: Revised MBR Tariff to be effective 4/14/2018.

Filed Date: 4/13/18.

Accession Number: 20180413-5137.

Comments Due: 5 p.m. ET 5/4/18.

Docket Numbers: ER18-1370-000.

Applicants: Sagebrush Power Partners, LLC.

Description: § 205(d) Rate Filing: Revised MBR Tariff to be effective 4/14/2018.

Filed Date: 4/13/18.

Accession Number: 20180413-5153.

Comments Due: 5 p.m. ET 5/4/18.

Docket Numbers: ER18-1371-000.

Applicants: Telocaset Wind Power Partners, LLC.

Description: § 205(d) Rate Filing: Revised MBR Tariff to be effective 4/14/2018.

Filed Date: 4/13/18.

Accession Number: 20180413-5164.

Comments Due: 5 p.m. ET 5/4/18.

Docket Numbers: ER18-1372-000.

Applicants: Waverly Wind Farm LLC.

Description: § 205(d) Rate Filing: Revised MBR Tariff to be effective 4/14/2018.

Filed Date: 4/13/18.

Accession Number: 20180413-5175.

Comments Due: 5 p.m. ET 5/4/18.

Docket Numbers: ER18-1373-000.

Applicants: Wheat Field Wind Power Project LLC.

Description: § 205(d) Rate Filing: Revised MBR Tariff to be effective 4/14/2018.

Filed Date: 4/13/18.

Accession Number: 20180413-5196.

Comments Due: 5 p.m. ET 5/4/18.

Docket Numbers: ER18-1374-000.

Applicants: Lost Lakes Wind Farm LLC.

Description: § 205(d) Rate Filing: Revised MBR Tariff to be effective 4/14/2018.

Filed Date: 4/13/18.

Accession Number: 20180413-5230.

Comments Due: 5 p.m. ET 5/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2018.
Nathaniel J. Davis, Sr.,
Deputy Secretary.

[FR Doc. 2018-08167 Filed 4-18-18; 8:45 am]

BILLING CODE 6717-01-P